DEPARTMENT OF JUSTICE

[OMB 1140-0107]

Agency Information Collection Activities; Proposed eCollection eComments Requested; Revision of a Previously Approved Collection; NFA Responsible Person Questionnaire, ATF Form 5320.23

AGENCY: Bureau of Alcohol, Tobacco, Firearms, and Explosives, Department of Justice.

ACTION: 60-Day notice.

SUMMARY: The Department of Justice (DOJ), The Bureau of Alcohol, Tobacco, Firearms, and Explosives (ATF), will be submitting the following information collection request to the Office of Management and Budget (OMB) for review and approval in accordance with the Paperwork Reduction Act of 1995.

DATES: Comments are encouraged and will be accepted for 60 days until October 14, 2025.

FOR FURTHER INFORMATION CONTACT: If you have additional comments, especially on the estimated public burden or associated response time, suggestions, or need a copy of the proposed information collection instrument with instructions or additional information, contact: Meghan Tisserand, Division Staff, National Firearms Act Division, either by mail at National Firearms Act Division; Division Staff Office; 244 Needy Road; Martinsburg, WV 25405, by email at meghan.tisserand@atf.gov, or by telephone at 304-616-3219.

SUPPLEMENTARY INFORMATION: We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

Abstract: When a trust or other legal entity (including corporations, married couples jointly registering a firearm, etc) must submit ATF Form 5320.1 (“Form 1”), Application to Make and Register NFA Firearm, as the maker, or is identified as the transferee on ATF Form 5320.4 (“Form 4”), Application to Transfer and Register NFA Firearm (Tax-Paid), or ATF Form 5320.5 (“Form 5”), Application to Transfer and Register NFA Firearm (Tax-Exempt), they are not able to submit individualy identifying information for purposes of a background check. As a result, ATF Form 5320.23 is required for any responsible person (as defined in 27 CFR 479.11) who is part of such trust or other legal entity. Forms 1, 4, and 5 are required under the National Firearms Act (NFA).

Information Collection (IC) OMB 1140-0107 is being revised to reflect an increase in the number of applicant responsible persons per year, rising from 115,829 applicants during the last renewal to 749,242, an increase of 633,413 responsible persons. However, there has been a decrease in the time burden due to changes in technology allowing electronic forms, reducing the number of respondents who must provide fingerprints and reducing the number of copies, allowing electronic fingerprints on-site, reducing respondents who must provide photographs, and substituting photocopied identification cards instead, all submitted electronically. As a result, there has been a corresponding decrease in the burden hours per respondent, from .5 hours to .2 hours each. These combined changes have resulted in resulting in an increase in total annual burden hours from 57,915 to 149,848 (an increase of 91,933 hours).

In addition, the Department is making the following changes to Form 5320.23 in anticipation of upcoming regulatory changes, and to make the form easier to read, correct minor errors, and adjust for updated technology:

• revising the title to be shorter

• removing the photo box on the form and revising the instructions to reflect anticipated regulatory change to who must submit fingerprints or photographs and to shift from a passport-style photo to a copy of a photo identification card

• combining race/ethnicity items

• allowing additional types of electronic/digital signatures

• adding references to eForms

• adding instructions for married couples jointly making, transferring, and registering a firearm, as an ‘other legal entity’

• correcting typographical/grammar items

• removing specific firearm information other than the type of firearm

Overview of This Information Collection

1. Type of information collection: Revision of a previously approved collection.

2. Title of the form/collection: NFA Responsible Person Questionnaire.

3. The agency form number, if any, and the applicable component of the Department sponsoring the collection: Form number: ATF Form 5320.23.

Component: Bureau of Alcohol, Tobacco, Firearms, and Explosives; U.S. Department of Justice.

4. Affected public who will be asked or required to respond, as well as the obligation to respond: Affected Public: State, local and tribal governments, private sector for- or not-for-profit institutions, federal government.

The obligation to respond is required to obtain/retain a benefit.

5. An estimate of the total number of respondents and the amount of time estimated for an average respondent to respond: An estimated 749,242 respondents will provide their responses to this collection once annually, and it will take each respondent approximately 12 minutes (.20 hours) to complete their responses.

6. An estimate of the total annual burden (in hours) associated with the collection: The estimated annual public burden associated with this collection is 149,848 total hours, which is equal to 749,242 (total respondents) * 1 (# of responses per respondent) * 12 minutes (.20 hours).

7. An estimate of the total annual cost burden associated with the collection, if applicable: $3,446,504.

Table—Estimated Annualized Respondent Cost and Hour Burden
[Rounded]
Activity | Number of respondents | Frequency | Total annual responses | Time per response | Total annual burden (hours) | Hourly rate | Monetized value of respondent time
Complete RP Questionnaire | 749,242 | 1 | 749,242 | 0.20 | 149,848 | $23 | $3,446,504

If additional information is required, contact: Darwin Arceo, Department Clearance Officer, United States Department of Justice, Justice Management Division, Policy and Planning Staff, Two Constitution Square, 145 N Street NE, 4W-218, Washington, DC.

Dated: August 12, 2025.
Darwin Arceo,
Department Clearance Officer for PRA, U.S. Department of Justice.

[FR Doc. 2025-15507 Filed 8-14-25; 8:45 am]

BILLING CODE 4410-FY-P